JOINT BOARD FOR ENROLLMENT OF ACTUARIES

Meeting of the Advisory Committee; Meeting

AGENCY: Joint Board for the Enrollment of Actuaries

ACTION: Notice of Federal Advisory Committee meeting.

SUMMARY: The Executive Director of the Joint Board for the Enrollment of Actuaries gives notice of a teleconference meeting of the Advisory Committee on Actuarial Examinations (a portion of which will be open to the public) on January 11-12, 2016.

DATES: Monday, January 11, 2016, from 9:00 a.m. to 5:00 p.m. (EST), and Tuesday, January 12, 2016, from 8:30 a.m. to 5:00 p.m. (EST).

ADDRESSES: The meeting will be held by teleconference.

FOR FURTHER INFORMATION CONTACT: Patrick W. McDonough, Executive Director of the Joint Board for the Enrollment of Actuaries, 703-414-2173.

SUPPLEMENTARY INFORMATION: Notice is hereby given that the Advisory Committee on Actuarial Examinations will hold a teleconference meeting on Monday, January 11, 2016, from 9:00 a.m. to 5:00 p.m. (EST), and Tuesday, January 12, 2016, from 8:30 a.m. to 5:00 p.m. (EST).

The purpose of the meeting is to discuss topics and questions that may be recommended for inclusion on future Joint Board examinations in actuarial mathematics and methodology referred to in 29 U.S.C. 1242(a)(1)(B) and to review the November 2015 Pension (EA-2F) Examination in order to make recommendations relative thereto, including the minimum acceptable pass score. Topics for inclusion on the syllabus for the Joint Board's examination program for the May 2016 Basic (EA-1) Examination and the May 2016 Pension (EA-2L) Examination will be discussed.

A determination has been made as required by section 10(d) of the Federal Advisory Committee Act, 5 U.S.C. App., that the portions of the meeting dealing with the discussion of questions that may appear on the Joint Board's examinations and the review of the November 2015 Pension (EA-2F) Examination fall within the exceptions to the open meeting requirement set forth in 5 U.S.C. 552b(c)(9)(B), and that the public interest requires that such portions be closed to public participation.

The portion of the meeting dealing with the discussion of the other topics will commence at 1:00 p.m. (EST) on January 11, 2016, and will continue for as long as necessary to complete the discussion, but not beyond 3:00 p.m. (EST). Time permitting, after the close of this discussion by Committee members, interested persons may make statements germane to this subject. Persons wishing to make oral statements should contact the Executive Director at Patrick.mcdonough@irs.gov and include the written text or outline of comments they propose to make orally. Such comments will be limited to 10 minutes in length. All persons planning to attend the public session should contact the Executive Director at Patrick.mcdonough@irs.gov to obtain teleconference access information. Notifications of intent to make an oral statement or to call in to the public session must be sent electronically to the Executive Director by no later than January 7, 2016. Any person also may file a written statement for consideration by the Joint Board and the Committee by sending it to: Internal Revenue Service; Attn: Patrick W. McDonough, Executive Director; Joint Board for the Enrollment of Actuaries SE:RPO; REFM, Park 4, Floor 4; 1111 Constitution Avenue NW.; Washington, DC 20224.

Dated: December 17, 2015.
Patrick W. McDonough,
Executive Director, Joint Board for Enrollment of Actuaries.

[FR Doc. 2015-32369 Filed 12-24-15; 8:45 am]

BILLING CODE 4830-01-P